DEPARTMENT OF TRANSPORTATION

Federal Railroad Administration

[Docket No. FRA-2000-7257, Notice No. 85]

Railroad Safety Advisory Committee; Notice of Meeting

AGENCY: Federal Railroad Administration, Department of Transportation.

ACTION: Notice of Railroad Safety Advisory Committee (RSAC) meeting.

SUMMARY: FRA announces the fifty-seventh meeting of the RSAC, a Federal Advisory Committee (Committee) that develops recommendations on railroad safety regulations and other railroad safety issues through a consensus process. This meeting has been rescheduled from January 26, 2017, the previously announced date. The RSAC meeting topics will include opening remarks from the FRA Associate Administrator for Railroad Safety and Chief Safety Officer, as well as a status report from the Engineering Task Force. In addition, FRA will present to the Committee the consensus recommendations from the Hazardous Materials Working Group's retrospective review of certain portions of the Hazardous Materials Regulations, with the intent of moving for a Committee vote to approve the same. This agenda is subject to change, including the possible addition of further proposed tasks.

DATES: The RSAC meeting is scheduled to commence at 9:30 a.m. on Thursday, May 25, 2017, and will adjourn by 4:30 p.m.

ADDRESSES: The RSAC meeting will be held at the National Association of Home Builders, National Housing Center, located at 1201 15th Street NW., Washington, DC 20005. The meeting is open to the public on a first-come, first-served basis, and is accessible to individuals with disabilities. Sign and oral interpretation can be made available if requested 10 calendar days before the meeting.

FOR FURTHER INFORMATION CONTACT: Kenton Kilgore, RSAC Administrative Officer/Coordinator, FRA, 1200 New Jersey Avenue SE., Mailstop 25, Washington, DC 20590, (202) 493-6286; or Robert Lauby, Associate Administrator for Railroad Safety and Chief Safety Officer, FRA, 1200 New Jersey Avenue SE., Mailstop 25, Washington, DC 20590, (202) 493-6474.

SUPPLEMENTARY INFORMATION: Pursuant to Section 10(a)(2) of the Federal Advisory Committee Act (Pub. L. 92-463), FRA is giving notice of a meeting of the RSAC. The RSAC was established to provide advice and recommendations to FRA on railroad safety matters. The RSAC is composed of 59 voting representatives from 38 member organizations, representing various rail industry perspectives. In addition, there are non-voting advisory representatives from the agencies with railroad safety regulatory responsibility in Canada and Mexico, the National Transportation Safety Board, and the Federal Transit Administration. The diversity of the RSAC ensures the requisite range of views and expertise necessary to discharge its responsibilities. See the RSAC Web site for details on prior RSAC activities and pending tasks at http://rsac.fra.dot.gov/. Please refer to the notice published in the Federal Register on March 11, 1996 (61 FR 9740), for additional information about the RSAC.

Robert C. Lauby,
Associate Administrator for Railroad Safety, Chief Safety Officer.

[FR Doc. 2017-08958 Filed 5-3-17; 8:45 am]

BILLING CODE 4910-06-P